DEPARTMENT OF LABOR

Occupational Safety and Health Administration

[Docket No. ICR-1218-0239 (2001)]

Voluntary Protection Program Application Information; Extension of the Office of Management of Budget's (OMB) Approval of Information-Collection (Paperwork) Requirements

AGENCY: Occupational Safety and Health Administration (OSHA), Labor.

ACTION: Notice of an opportunity public comment.

SUMMARY: OSHA solicits public comment concerning its request for an extension of the information-collection requirements of the Voluntary Protection Program.

REQUEST FOR COMMENT: The Agency has a particular interest in comments on the following issues:

• Whether the proposed information-collection requirements are necessary for the proper performance of the Agency's functions, including whether the information is useful;

• The accuracy of the Agency's estimate of the burden (time and costs) of the information-collection requirements, including the validity of the methodology and assumptions used;

• The quality, utility, and clarity of the information collected; and

• Ways to minimize the burden on employers who must comply; for example, by using automated or other technological information-collection and -transmission techniques.

DATES: Submit written comments on or before July 30, 2001.

ADDRESSES: Submit written comments to the Docket Office, Docket No. ICR-1218-0239 (2001), OSHA, U.S. Department of Labor, Room N-2625, 200 Constitution Avenue, NW., Washington, DC 20210; telephone: (202) 693-2350. Commenters may transmit written comments of 10 pages or less in length by facsimile to (202) 693-1648.

FOR FURTHER INFORMATION CONTACT: Cathy Oliver, Division of Voluntary Programs, Office of Cooperative Programs, Directorate of Federal-State Operations, OSHA, Room N-3700, 200 Constitution Avenue, NW., Washington, DC 20210, telephone: (202) 693-2213. A copy of the Agency's Information-Collection Request (ICR) supporting the need for the information-collection requirements for the Voluntary Protection Program is available for inspection and copying in the Docket Office, or you may request a mailed copy by telephoning Rogelio Carrasco at (202) 693-2213. For electronic copies of this ICR, contact OSHA on the Internet at http://www.osha.gov and select “Information Collection Requests.”

SUPPLEMENTARY INFORMATION:

I. Background

The Department of Labor, as part of its continuing effect to reduce paperwork and respondent burden, conducts a preclearance consultation program to provide the general public and Federal agencies with an opportunity to comment on proposed and continuing information-collections requirements in accordance with the Paperwork Reduction Act of 1995 (PRA 95) (44 U.S.C. 3506(c)(2)(A)). This program ensures that information is in the desired format, reporting burden (time and costs) is minimal, collection instruments are clearly understood, and OSHA's estimate of information burden is correct. The Occupational Safety and Health Act of 1970 (the “Act”) authorizes the establishment and supervision of programs for the education and training of employers and employees in the recognition, avoidance, and prevention of unsafe and unhealthful working conditions in employment covered by the Act.

The Voluntary Protection Program (VPP) (47 FR 29025), adopted by OSHA established the efficacy of cooperative action among government, industry, and labor to address worker safety and health issues and to expand worker protection. To quality, employers must meet OSHA's rigorous safety and health management criteria, which focus on comprehensive management systems and active employee involvement to prevent or control worksite safety and health hazards. Employers who qualify generally view OSHA standards as a minimum level of safety and health performance, and set their own more stringent standards, wherever necessary, to improve employee protection.

Prospective VPP worksites must submit an application that includes:

• General site information (i.e., site, corporate, and collective bargaining contact information ).

• Injury and illness rate performance information (i.e., number of employees and/or applicable contractors on site, type of work performed and products produced, Standard Industrial Code, and Recordable Injury and Illness Case Incidence Rate information).

• Safety and health program information (i.e., a copy of the site's safety and health program and/or a description of the program; and a description of how the program successfully addresses management leadership and employee involvement, worksite analysis, hazard prevention and control, and safety and health training).

OSHA uses this information to determine whether a worksite is ready for a VPP onsite evaluation and as a verification tool during VPP onsite evaluations. Without this information, OSHA would be unable to determine which sites are ready for VPP status.

Each current VPP worksite is also required to submit an annual evaluation, in narrative format, that addresses how that site is continuing its adherence to programmatic requirements. OSHA needs this information to ensure that the worksite remains qualified to participate in the VPP in the three to five years between onsite evaluations. Without this information, OSHA would be unable to determine whether sites are maintaining excellent safety and health management systems during this interim period.

VPP worksite employees may apply to participate in the VPP Volunteers Program. The VPP Volunteers Program was established as a means to leverage OSHA's limited resources. Through this program, safety and health professionals employed at VPP sites are trained to participate as team members during VPP onsite evaluations. In that capacity, VPP Volunteers may review company documents, assist with worksite walkthroughs, interview employees, and assist in preparing VPP onsite evaluation reports. Potential VPP Volunteers must submit a VPP Volunteers Application that includes:

• General contact information (i.e. applicant's name, professional credentials, site/corporate contact information, etc.).

• A resume or the Optional Application for Federal Employment (OF-612) form.

• Confidential Financial Disclosure Report (OGE Form 450).

• Waiver of Claims Against the Government.

• Department of Labor Request for Name Check (DL-68).

OSHA uses the contact information to arrange for VPP Volunteer participation at VPP onsite evaluations, send congratulatory letters, and inform them of their status in the program. The resume or OF-612 and the DL-68 are used to determine whether an applicant is qualified to participate in the VPP Volunteers Program. The OGE Form 450 is used to ensure that VPP Volunteers do not participate in evaluations at sites where there may be a conflict of interest. The Waiver of Claims Against the Government protects OSHA against liability.

II. Proposed Actions

OSHA proposes to extend the Office of Management and Budget's (OMB) approval of the collection-of-information (paperwork) requirements necessitated by the Voluntary Protection Program. The Agency will summarize the comments submitted in response to this notice, and will include this summary in its request to OMB to extend the approval of these information-collection requirements.

Type of Review: Extension of currently approved information-collection requirements.

Title: Voluntary Protection Program Application Information.

OMB Number: 1218-0239

Affected Public: Business or other for profits; and individuals or households.

Number of Respondents: 171 applications from potential VPP worksites + 711 annual evaluations from current VPP worksites (3-year average) + 75 applications from potential VPP Volunteers per year (3-year average) = 957 total respondents.

Frequency: VPP applications are submitted once, VPP annual evaluations are submitted once per year, and VPP Volunteer Applications are submitted once every three years.

Average Time Per Response: 200 hours for worksites submitting VPP applications: 20 hours for worksites submitting a VPP annual evaluation, and 1 hour and 20 minutes for individuals submitting VPP Volunteer Applications.

Estimated Total Burden Hours: 34,200 annual hours for worksites submitting VPP applications (3-year average) + 14,220 annual hours for worksites submitting a VPP annual evaluation (3-year average) + 102 annual hours for individuals submitting VPP Volunteer Applications (3-year average) = 48,522 total burden hours per year (3-year average).

Estimated Cost (Operation and Maintenance): $0.

III. Authority and Signature

R. Davis Layne, Acting Assistant Secretary of Labor for Occupational Safety and Health, directed the preparation of this notice. The authority for this notice is the Paperwork Reduction Act of 1995 (44 U.S.C. 3506) and Secretary of Labor's Order No. 3-2000 (65 FR 50017).

Signed at Washington, DC, on May 22, 2001.
R. Davis Layne,
Acting Assistant Secretary of Labor.

[FR Doc. 01-13382 Filed 5-25-01; 8:45 am]

BILLING CODE 4510-26-M